DEPARTMENT OF LABOR

Employment and Training Administration

[TA-W-56,962 and TA-W-56,962A]

Hornwood, Inc., New York, NY and Hornwood, Inc., Johnstown, NY; Notice of Termination of Investigation

Pursuant to Section 221 of the Trade Act of 1974, an investigation was initiated on April 14, 2005, in response to a petition filed by a company official on behalf of workers at Hornwood, Inc., New York, New York (TA-W-56,962) and Johnstown, New York (TA-W-56,962A).

The petitioner has requested that the petition be withdrawn. Consequently, the investigation has been terminated.

Signed in Washington, DC, this 29th day of April, 2005.
Elliott S. Kushner,
Certifying Officer, Division of Trade Adjustment Assistance.

[FR Doc. E5-2419 Filed 5-13-05; 8:45 am]

BILLING CODE 4510-30-P